DEPARTMENT OF LABOR

Employment and Training Administration

[TA-W-61,268]

Hewlett-Packard Company, Technology Solutions Group—Global Mission Critical Solution Center—Nonstop Tech/Proactive, Austin, TX; Dismissal of Application for Reconsideration

Pursuant to 29 CFR 90.18(C) an application for administrative reconsideration was filed with the Director of the Division of Trade Adjustment Assistance for workers at Hewlett-Packard Company, Technology Solutions Group—Global Mission Critical Solution Center—Nonstop Tech/Proactive, Austin, Texas. The application did not contain new information supporting a conclusion that the determination was erroneous, and also did not provide a justification for reconsideration of the determination that was based on either mistaken facts or a misinterpretation of facts or of the law. Therefore, dismissal of the application was issued.

TA-W-61,268; Hewlett-Packard Company Technology Solutions Group—Global Mission Critical Solution Center—Nonstop Tech/Proactive, Austin, Texas (July 3, 2007).

Signed at Washington, DC this 9th day of July 2007.
Linda G. Poole,
Certifying Officer, Division of Trade Adjustment Assistance.

[FR Doc. E7-13783 Filed 7-16-07; 8:45 am]

BILLING CODE 4510-FN-P